DEPARTMENT OF AGRICULTURE

Forest Service

Gore Creek Restoration Project; Intent To Prepare an Environmental Impact Statement

AGENCY: Medicine Bow-Routt National Forests, Forest Service, USDA.

Project: Gore Creek Restoration Project.

ACTION: Notice of intent to prepare an environmental impact statement.

SUMMARY: In accordance with the National Environmental Policy Act, notice is hereby given that the Forest Service, Medicine Bow-Routt National Forests, will prepare a Draft Environmental Impact Statement to disclose the environmental consequences of the proposed Gore Creek Restoration Project (Gore Creek). The Gore Creek analysis area encompasses approximately 76,000 acres of National Forest System (NFS) land with 6,900 acres of interspersed private land.

The Yampa Ranger District is proposing a variety of actions in the Gore Pass area to improve watershed health and reduce potential erosion issues. Timber harvesting that took place outside of previously analyzed timber sale boundaries has resulted in impacts that had not been previously analyzed. Before rehabilitation can be completed, a new analysis must be conducted to address the previous activities and the proposed rehabilitation activities.

In order to complete previously analyzed vegetation management projects, an analysis of additional temporary roads needs to occur. Included in the analysis is the further consideration of the roads that would be necessary to complete both proposed, remaining timber management activities and the restoration activities. The analysis will be used to determine the best methods for minimizing watershed impacts from the current roads, proposed roads and road construction. Included in the analysis of the existing and proposed road construction will be the consideration of restoration of dispersed campsites within riparian areas within the project area, which may be impacting watershed health. Also included in the analysis will be the effects of disposing of merchantable timber and other vegetation resulting from emergency clearing work within the power line right-of-ways in the analysis area.

DATES: Comments concerning the scope of the analysis should be received by 30 days from the publication of this Notice. The Draft Environmental Impact Statement is expected to be available for public review in January 2013, the Final Environmental Impact Statement is expected to be available in March 2013, and the Record of Decision is expected to be released in March 2013.

ADDRESSES: Send written comments to Jack Lewis, Yampa District Ranger, P.O. Box 7, Yampa, Colorado 80483 or email comments to comments-rocky-mountain-medicine-bow-yampa@fs.fed.us. All comments, including names and addresses of commenters, when provided, are placed in the record and will be available for public inspection and copying. The public may review the comments at the Yampa Ranger District, 300 Roselawn Ave., Yampa, Colorado 80483. Visitors are encouraged to call ahead to (970) 638-4516 to facilitate entry into the building.

FOR FURTHER INFORMATION CONTACT: Jamie Krezelok, Project Manager, Hahn Peaks/Bears Ears Ranger District, 925 Weiss Drive, Steamboat Springs, Colorado 80487, (970) 870-2256 or email—jkrezelok@fs.fed.us. Individuals who use telecommunication devices for the deaf (TTF) may call the Federal Information Relay Service (FIRS) at 1-800-877-8339 between 8 a.m. and 8 p.m., Eastern Standard Time, Monday through Friday.

SUPPLEMENTARY INFORMATION:

Purpose and Need for Action

The purpose of the Gore Creek project is to address the environmental impacts created during implementation of the Rock Creek decision and reduce current impacts associated with roads in the analysis area.

The needs for the proposed action include:

• Analyzing the landings, slash piles, and skid trails that were inadvertently created during timber sale activities.

• Analyze effects of temporary roads needed to complete the Rock Creek sales.

• Analyze additional proposed actions associated with completing the Rock Creek sales.

• Analyze the clean-up activities for powerlines in the analysis area.

• Improve watershed health through relocation and/or decommissioning of roads and dispersed campsites that may be causing adverse impacts to stream networks within the project boundary.

Proposed Action

The Yampa Ranger District of the Medicine Bow-Routt National Forests, proposes to authorize vegetation management and restoration activities on specified areas within the Gore Creek Restoration project area in order to meet or move toward desired conditions in a specified timeframe. Vegetation treatments may include; piling and stacking of timber that has already been cut, removing decks, and pile burning. Associated rehabilitation activities on landings, slash piles, skid trails, and temporary roads may include; ripping, seeding, slash, re-contouring, scarification, and erosion control. Watershed improvement projects are proposed on National Forest System Roads (NFSR) 185, 241, 242, 243, and 246 and may include; changing primary type of use on portions of existing roads, improving drainage on roads, re-routing portions of system roads, road decommissioning, new road construction, and dispersed campsite decommissioning along streams.

Responsible Official

The Official responsible for this proposal is Jack H. Lewis, District Ranger, Yampa Ranger District, The responsible Official will consider the analysis and conclusions of the environmental effects and then document the final decision in a Record of Decision (ROD).

Nature of Decision To Be Made

The Gore Creek Restoration Environmental Impact Statement will document the site-specific management proposals, alternatives to the Proposed Action, and the analysis of the effects of the activities proposed in the alternatives. It will form the basis for the Responsible Official to determine: (1) Whether or not the Proposed Action and alternatives are responsive to the issues, consistent with Forest Plan direction and if not whether a Forest Plan amendment would be necessary, meet the purpose and need, and are consistent with other related laws and regulations directing National Forest Management activities; (2) whether or not the information in the analysis is sufficient to implement proposed activities; and (3) which actions, if any, to approve.

Comment Requested

This notice of intent initiates the scoping process that guides the development of the environmental impact statement. Comments that are site-specific in nature are most helpful to resource professionals when trying to narrow and address the public's issues and concerns.

All comments will be reviewed and considered to identify relevant issues. Issues that cannot be resolved through design features or minor changes to the Proposed Action may generate alternatives to the Proposed Action. This process is driven by comments received from the public, other agencies, and internal Forest Service concerns. To assist in commenting, a scoping letter providing more detail on the project proposal has been prepared and is available to interested parties at http://www.fs.usda.gov/projects/mbr/landmanagement/projects. Contact Jamie Krezelok, Project Coordinator, at the address listed in this notice of intent if you would like to receive a copy.

Dated: April 4, 2012.
Melissa A. Dressen,
Yampa Acting District Ranger.

[FR Doc. 2012-8585 Filed 4-10-12; 8:45 am]

BILLING CODE 3410-11-P